DEPARTMENT OF TRANSPORTATION

Federal Aviation Administration

14 CFR Part 71

[Docket No. FAA-2005-22665; Airspace Docket No. 05-ANM-13]

Amendment to Class E Airspace; Jackson, WY

AGENCY: Federal Aviation Administration (FAA), DOT.

ACTION: Final rule.

SUMMARY: This action will revise the Class E airspace area at Jackson, WY. Additional controlled airspace is necessary to accommodate aircraft using a new Localizer Performance with Vertical Guidance (LPV) approach procedure with Lateral/Vertical Navigation (LNAV/VNAV) minimums. This additional controlled airspace is necessary for the safety of Instrument Flight Rules (IFR) aircraft executing this new LPV approach procedure at Jackson Hole Airport, Jackson, WY. This final rule also corrects an error in the airport's latitude and longitude coordinates and reference to exclusions to surrounding controlled airspace in the airspace description section.

DATES: Effective Date: 0901 UTC, August 3, 2006.

FOR FURTHER INFORMATION CONTACT: Ed Haeseker, Federal Aviation Administration, Western En Route and Oceanic Area Office, Airspace Branch, 1601 Lind Avenue, SW., Renton, WA, 98055-4056; telephone (425) 227-2527.

SUPPLEMENTARY INFORMATION:

History

On December 28, 2005, the FAA published in the Federal Register a notice of proposed rulemaking to revise Class E airspace at Jackson, WY (70 FR 76729). The proposed action would provide additional controlled airspace for the safety of IFR aircraft using a new LPV approach procedure with LNAV/VNAV minimums at Jackson Hole Airport, Jackson, WY. Interested parties were invited to participate in this rulemaking effort by submitting written comments on the proposal to the FAA. No comments were received.

Class E airspace designations are published in paragraph 6005 of FAA Order 7400.9N, dated September 1, 2005, and effective September 15, 2005, which is incorporated by reference in 14 CFR part 71.1. The Class E airspace designations listed in this document will be published subsequently in that Order.

The Rule

This action amends Title 14 Code of Federal Regulations (14 CFR) part 71 by revising Class E airspace at Jackson, WY. Additional controlled airspace is necessary to accommodate aircraft executing a new LPV approach procedure with LNAV/VNAV minimums. This additional controlled airspace is necessary for the safety of IFR aircraft executing this new LPV approach procedure at Jackson Hole Airport, Jackson, WY. This final rule also corrects an error in the Notice of Proposed Rulemaking (NPRM) for Jackson Hole Airport's latitude and longitude coordinates and reference to exclusions to surrounding controlled airspace in the airspace description section.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9N, Airspace Designations and Reporting Points, dated September 1, 2005, and effective September 15, 2005, is amended as follows:

Paragraph 6005 Class E airspace areas extending upward from 700 feet or more above the surface of the earth.

* * * * *

ANM WY E5 Jackson, WY [Revised]

Jackson Hole Airport, WY

(Lat. 43°36′26″ N., long. 110°44′16″ W.)

Jackson VOR/DME

(Lat. 43°37′16″ N., long. 110°43′54″ W.)

That airspace extending upward from 700 feet above the surface within a 4.3-mile radius of Jackson Hole Airport, and within 4.4 miles west and 8.3 miles east of the Jackson VOR/DME 200° radial extending from the VOR/DME to 24.5 miles south of the VOR/DME, and within 4.4 miles each side of the 20° radial from the Jackson VOR/DME extending to 17.8 miles; that airspace extending upward from 1,200 feet above the surface within 15.2 miles west and 18.7 miles east of the Jackson VOR/DME 20° radial extending from the VOR/DME to 44.6 miles north of the VOR/DME, and that airspace west of the Jackson VOR/DME bounded on the northwest by the southeast edge of V-520 extending to 15.2 miles in an arc counterclockwise to the northwest edge of V-465, and that airspace to the south of the Jackson VOR/DME bounded on the northwest by the southeast edge of V-465, on the east by the southwest edge of V-328, on the south by the north edge of V-4 and on the west by long. 112°00′00″ W., and that airspace east of the Jackson VOR/DME between the 52° radial and 156° radial extending to 33.1 miles.

* * * * *

Issued in Seattle, Washington, on May 23, 2006.
R.D. Engelke,
Acting Area Director, Western En Route and Oceanic Operations.

[FR Doc. 06-5107 Filed 6-2-06; 8:45 am]

BILLING CODE 4910-13-P